DEPARTMENT OF AGRICULTURE

Forest Service

Ravalli County Resource Advisory Committee

AGENCY: Forest Service, USDA.

ACTION: Notice of meeting.

SUMMARY: The Ravalli County Resource Advisory Committee will be meeting to go on a field trip. The meeting is being held pursuant to the authorities in the Federal Advisory Committee Act (Pub. L. 92-463) and under the Secure Rural Schools and Community Self-Determination Act of 2000 (Pub. L. 106-393). The meeting is open to the public.

DATES: The field trip will start on June 24, 2008, 6 p.m.

ADDRESSES: The field trip will meet at the Bitterroot National Forest, 1801 N. First Street, Hamilton, Montana in the back parking lot to team up for the car pool. Send written comments to Daniel C. Ritter, District Ranger, Stevensville Ranger District, 88 Main Street, Stevensville, MT 59870, by facsimile (406) 777-7423, or electronically to dritter@fs.fed.us.

FOR FURTHER INFORMATION CONTACT: Daniel G. Ritter, Stevensville District Ranger and Designated Federal Officer, Phone: (406) 777-5461.

Dated: June 12, 2008.
Barry Paulson,
Deputy Forest Supervisor.

[FR Doc. E8-13983 Filed 6-19-08; 8:45 am]

BILLING CODE 3410-11-M